ENVIRONMENTAL PROTECTION AGENCY

[FRL-10013-39-OAR]

Announcing Upcoming Meeting of Mobile Sources Technical Review Subcommittee

AGENCY: Environmental Protection Agency (EPA).

ACTION: Notice.

SUMMARY: Pursuant to the Federal Advisory Committee Act, EPA announces an upcoming meeting of the Mobile Sources Technical Review Subcommittee (MSTRS), which is a subcommittee under the Clean Air Act Advisory Committee (CAAAC). This is a virtual meeting and open to the public. The meeting will include discussion of current topics and presentations about activities being conducted by EPA's Office of Transportation and Air Quality. MSTRS listserv subscribers will receive notification when the agenda is available on the Subcommittee website. To subscribe to the MSTRS listserv, send an email to MSTRS@epa.gov.

DATES: EPA will hold a virtual public meeting on Monday, October 19, 2020 from 9:00 a.m. to 5:00 p.m. Eastern Daylight Time (EDT). Please monitor the website https://www.epa.gov/caaac/mobile-sources-technical-review-subcommittee-mstrs-caaac for any changes to meeting logistics. The final meeting agenda will be posted on the website.

ADDRESSES: For information on the public meeting or to register to attend, please contact MSTRS@epa.gov.

FOR FURTHER INFORMATION CONTACT: Any member of the public who wishes to attend the meeting or provide comments should express this intent by emailing MSTRS@epa.gov no later than Thursday, October 1, 2020. Further information concerning this public meeting and general information concerning the MSTRS can be found at: https://www.epa.gov/caaac/mobile-sources-technical-review-subcommittee-mstrs-caaac. Other MSTRS inquiries can be directed to Julia Burch, the Designated Federal Officer for MSTRS, Office of Transportation and Air Quality, at 202-564-0961 or burch.julia@epa.gov.

SUPPLEMENTARY INFORMATION: During the meeting, the Subcommittee may also hear progress reports from its workgroups as well as updates and announcements on Office of Transportation and Air Quality activities of general interest to attendees.

Participation in virtual public meetings. Please note that EPA is deviating from its typical approach because the President has declared a national emergency. Because of current CDC recommendations, as well as state and local orders for social distancing to limit the spread of COVID-19, EPA cannot hold in-person public meetings at this time.

The virtual public meeting will provide interested parties the opportunity to participate in this Federal Advisory Committee meeting.

EPA is asking all meeting attendees, even those who do not intend to speak, to register for the meeting by sending an email to the address listed in the FOR FURTHER INFORMATION CONTACT section above, by Thursday October 1, 2020. This will help EPA ensure that sufficient participation capacity will be available.

Please note that any updates made to any aspect of the meeting logistics, including potential additional sessions, will be posted online at https://www.epa.gov/caaac/mobile-sources-technical-review-subcommittee-mstrs-caaac. While EPA expects the meeting to go forward as set forth above, please monitor the website for any updates.

For individuals with disabilities: For information on access or services for individuals with disabilities, please email MSTRS@epa.gov. To request accommodate of a disability, please email MSTRS@epa.gov, preferably at least 10 business days prior to the meeting, to give EPA as much time as possible to process your request.

Dated: September 8, 2020.
Julia Burch,
Designated Federal Officer, Mobile Source Technical Review Subcommittee, Office of Transportation and Air Quality.

[FR Doc. 2020-20157 Filed 9-11-20; 8:45 am]

BILLING CODE 6560-50-P